DEPARTMENT OF COMMERCE

National Oceanic and Atmospheric Administration

RIN 0648-XG464

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) will hold a meeting that is open to the public.

DATES: The meeting will begin at 1 p.m. on Wednesday, September 26, 2018, and continue at 8 a.m. on Thursday and Friday, September 27-28. The meeting will end each day at 5 p.m. or until business for the day has been completed.

ADDRESSES: The meeting will be held in the Large Conference Room of the Pacific Council office in Portland, OR.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The meeting is a CPSMT work session with the purpose of developing materials for consideration at the Pacific Council's November 1-8, 2018 meeting in San Diego, CA. Topics may include the live bait fishery allowance Fishery Management Plan amendment, CPS management categories, stock assessment prioritization, the Council Stock Assessment and Fishery Evaluation document, and other items. An agenda will be available in advance of the meeting, on the Pacific Council website.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: September 4, 2018.
Tracey L. Thompson,
Acting Deputy Director, Office of Sustainable Fisheries, National Marine Fisheries Service.

[FR Doc. 2018-19473 Filed 9-7-18; 8:45 am]

BILLING CODE 3510-22-P